DEPARTMENT OF ENERGY

Federal Energy Regulatory Commission

[Docket No. CP02-60-003]

CMS Trunkline LNG Company, LLC; Notice of Filing

April 25, 2003.

Take notice that on April 17, 2003, CMS Trunkline LNG Company, LLC (Trunkline LNG), Docket No. CP02-60-003, P. O. Box 4967, Houston, Texas, filed with the Federal Energy Regulatory Commission (Commission) an abbreviated application pursuant to the Natural Gas Act (NGA) to amend the authority granted for its LNG Terminal Expansion Project by Commission order dated December 18, 2002 in Docket Nos. CP02-60-000 and CP02-60-001. The application is on file with the Commission and open for public inspection. The filing is available for review at the Commission in the Public Reference Room or may be viewed on the Commission's Web site at http://www.ferc.gov using the “FERRIS” link. Enter the docket number excluding the last three digits in the docket number field to access the document. For assistance, please contact FERC Online Support at FERCOnlineSupport@ferc.gov or toll free at (866)208-3676, or for TTY, contact (202) 502-8659.

Trunkline LNG requests authorization to amend its Expansion Project with the following modifications: (1) To operate the new docking facilities as a marine layberth, in lieu of the construction of new unloading facilities; (2) to utilize local commercial electric service, Entergy Louisiana, Inc. (Entergy), in lieu of installing additional on-site generation facilities; and (3) to extend for one year, until January 1, 2006, the in-service date for the proposed expansion project. The modifications will not affect the newly authorized additional storage capacity of 2.7 Bcf nor the daily sendout capability of 1,200 MMcf per day and peaking capacity of 1,300 MMcf per day. The estimated cost of the amended project is $166.4 million, compared to the original estimated cost of $177.2 million.

Any questions regarding this application may be directed to William W. Grygar, Vice President, Rates and Regulatory Affairs, at (713)989-7660, CMS Trunkline LNG Company, LLC, 5444 Westheimer Road, Houston, Texas 77056.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: May 16, 2003.

Magalie R. Salas,
Secretary.

[FR Doc. 03-10766 Filed 4-30-03; 8:45 am]

BILLING CODE 6717-01-P